DEPARTMENT OF ENERGY

Federal Energy Regulatory Commission

Combined Notice of Filings #2

Take notice that the Commission received the following exempt wholesale generator filings:

Docket Numbers: EG19-41-000.

Applicants: Innovative Solar 54, LLC.

Description: Notice of Self-Certification of Exempt Wholesale Generator Status of Innovative Solar 54, LLC.

Filed Date: 12/28/18.

Accession Number: 20181228-5198.

Comments Due: 5 p.m. ET 1/18/19.

Docket Numbers: EG19-42-000.

Applicants: CCP-PL Lessee IV, LLC.

Description: Notice of Self-Certification of Exempt Wholesale Generator Status of CCP-PL Lessee IV, LLC.

Filed Date: 12/28/18.

Accession Number: 20181228-5199.

Comments Due: 5 p.m. ET 1/18/19.

Docket Numbers: EG19-43-000.

Applicants: Innovative Solar 67, LLC.

Description: Notice of Self-Certification of Exempt Wholesale Generator Status of Innovative Solar 67, LLC.

Filed Date: 12/28/18.

Accession Number: 20181228-5201.

Comments Due: 5 p.m. ET 1/18/19.

Docket Numbers: EG19-44-000.

Applicants: CCP-PL Lessee V, LLC.

Description: Notice of Self-Certification of Exempt Wholesale Generator Status of CCP-PL Lessee V, LLC.

Filed Date: 12/28/18.

Accession Number: 20181228-5202.

Comments Due: 5 p.m. ET 1/18/19.

Take notice that the Commission received the following electric rate filings:

Docket Numbers: ER10-2721-008.

Applicants: El Paso Electric Company.

Description: Updated Market Power Analysis of El Paso Electric Company.

Filed Date: 12/28/18.

Accession Number: 20181228-5167.

Comments Due: 5 p.m. ET 2/26/19.

Docket Numbers: ER10-2881-033; ER10-1874-008; ER10-2882-035; ER10-2883-033; ER10-2884-033; ER10-2885-033; ER16-2509-004; ER17-2400-005; ER17-2401-005; ER17-2403-005; ER17-2404-005; ER19-9-002.

Applicants: Alabama Power Company, Georgia Power Company, Gulf Power Company, Mississippi Power Company, Southern Power Company, SP Butler Solar, LLC, SP Decatur Parkway Solar, LLC, SP Pawpaw Solar, LLC, SP Sandhills Solar, LLC, Rutherford Farm, LLC, Mankato Energy Center II, LLC, Mankato Energy Center, LLC.

Description: Notification of Non-Material of Change in Status of Alabama Power Company, et al.

Filed Date: 12/28/18.

Accession Number: 20181228-5272.

Comments Due: 5 p.m. ET 1/18/19.

Docket Numbers: ER16-2527-002; ER10-1333-013; ER12-1502-005; ER12-1504-005; ER12-1946-013; ER15-190-010; ER17-2-003; ER17-543-007; ER18-1343-004.

Applicants: Caprock Solar I LLC, Cimarron Windpower II, LLC, Duke Energy Beckjord, LLC, Duke Energy Commercial Enterprises, Inc., Duke Energy Renewable Services, LLC, Duke Energy SAM, LLC, Frontier Windpower, LLC, Ironwood Windpower, LLC, Carolina Solar Power, LLC.

Description: Triennial Market Power Update for SPP Region of Duke SPP MBR Sellers.

Filed Date: 12/28/18.

Accession Number: 20181228-5154.

Comments Due: 5 p.m. ET 2/26/19.

Docket Numbers: ER19-19-001.

Applicants: PJM Interconnection, L.L.C.

Description: Compliance filing: Compliance Filing Pursuant to the Commission's November 29, 2018 Order to be effective 12/1/2018.

Filed Date: 12/28/18.

Accession Number: 20181228-5297.

Comments Due: 5 p.m. ET 1/18/19.

Docket Numbers: ER19-713-000.

Applicants: Mid-Atlantic Interstate Transmission, LLC, PJM Interconnection, L.L.C.

Description: § 205(d) Rate Filing: MAIT submits Interconnection Agreement (IA) SA No. 4988 to be effective 2/27/2019.

Filed Date: 12/28/18.

Accession Number: 20181228-5122.

Comments Due: 5 p.m. ET 1/18/19.

Docket Numbers: ER19-714-000.

Applicants: Tucson Electric Power Company.

Description: § 205(d) Rate Filing: Transmission Service Agreement No. 411 to be effective 1/1/2019.

Filed Date: 12/28/18.

Accession Number: 20181228-5138.

Comments Due: 5 p.m. ET 1/18/19.

Docket Numbers: ER19-715-000.

Applicants: American Transmission Systems, Incorporated, PJM Interconnection, L.L.C.

Description: § 205(d) Rate Filing: ATSI submits three ECSAs, Service Agreement Nos. 5139, 5199, and 5200 to be effective 2/26/2019.

Filed Date: 12/28/18.

Accession Number: 20181228-5165.

Comments Due: 5 p.m. ET 1/18/19.

Docket Numbers: ER19-716-000.

Applicants: PacifiCorp.

Description: § 205(d) Rate Filing: ESM Construction Agreement—Milford to be effective 12/20/2018.

Filed Date: 12/28/18.

Accession Number: 20181228-5196.

Comments Due: 5 p.m. ET 1/18/19.

Docket Numbers: ER19-717-000.

Applicants: AEP Generating Company.

Description: § 205(d) Rate Filing: AEP Generating Company Unit Power Agreements to be effective 1/1/2019.

Filed Date: 12/28/18.

Accession Number: 20181228-5215.

Comments Due: 5 p.m. ET 1/18/19.

Docket Numbers: ER19-719-000.

Applicants: Calpine Construction Finance Company, L.P.

Description: § 205(d) Rate Filing: Market-Based Rate Tariff Revisions to be effective 12/29/2018.

Filed Date: 12/28/18.

Accession Number: 20181228-5226.

Comments Due: 5 p.m. ET 1/18/19.

Docket Numbers: ER19-720-000.

Applicants: Calpine Gilroy Cogen, L.P.

Description: § 205(d) Rate Filing: Market-Based Rate Tariff Revisions to be effective 12/29/2018.

Filed Date: 12/28/18.

Accession Number: 20181228-5227.

Comments Due: 5 p.m. ET 1/18/19.

Docket Numbers: ER19-721-000.

Applicants: Calpine Mid-Atlantic Marketing, LLC.

Description: § 205(d) Rate Filing: Market-Based Rate Tariff Revisions to be effective 12/29/2018.

Filed Date: 12/28/18.

Accession Number: 20181228-5234.

Comments Due: 5 p.m. ET 1/18/19.

Docket Numbers: ER19-722-000.

Applicants: Calpine Power America—CA, LLC.

Description: § 205(d) Rate Filing: Market-Based Rate Tariff Revisions to be effective 12/29/2018.

Filed Date: 12/28/18.

Accession Number: 20181228-5235.

Comments Due: 5 p.m. ET 1/18/19.

Docket Numbers: ER19-723-000.

Applicants: CCFC Sutter Energy, LLC.

Description: § 205(d) Rate Filing: Market-Based Rate Tariff Revisions to be effective 12/29/2018.

Filed Date: 12/28/18.

Accession Number: 20181228-5238.

Comments Due: 5 p.m. ET 1/18/19.

Docket Numbers: ER19-724-000.

Applicants: Creed Energy Center, LLC.

Description: § 205(d) Rate Filing: Market-Based Rate Tariff Revisions to be effective 12/29/2018.

Filed Date: 12/28/18.

Accession Number: 20181228-5243.

Comments Due: 5 p.m. ET 1/18/19.

Docket Numbers: ER19-725-000.

Applicants: Delta Energy Center, LLC.

Description: § 205(d) Rate Filing: Market-Based Rate Tariff Revisions to be effective 12/29/2018.

Filed Date: 12/28/18.

Accession Number: 20181228-5246.

Comments Due: 5 p.m. ET 1/18/19.

Docket Numbers: ER19-726-000.

Applicants: Geysers Power Company, LLC.

Description: § 205(d) Rate Filing: Market-Based Rate Tariff Revisions to be effective 12/29/2018.

Filed Date: 12/28/18.

Accession Number: 20181228-5247.

Comments Due: 5 p.m. ET 1/18/19.

Docket Numbers: ER19-727-000.

Applicants: Gilroy Energy Center, LLC.

Description: § 205(d) Rate Filing: Market-Based Rate Tariff Revisions to be effective 12/29/2018.

Filed Date: 12/28/18.

Accession Number: 20181228-5248.

Comments Due: 5 p.m. ET 1/18/19.

Docket Numbers: ER19-728-000.

Applicants: Goose Haven Energy Center, LLC.

Description: § 205(d) Rate Filing: Market-Based Rate Tariff Revisions to be effective 12/29/2018.

Filed Date: 12/28/18.

Accession Number: 20181228-5253.

Comments Due: 5 p.m. ET 1/18/19.

Docket Numbers: ER19-729-000.

Applicants: Hermiston Power, LLC.

Description: § 205(d) Rate Filing: Market-Based Rate Tariff Revisions to be effective 12/29/2018.

Filed Date: 12/28/18.

Accession Number: 20181228-5258.

Comments Due: 5 p.m. ET 1/18/19.

Docket Numbers: ER19-730-000.

Applicants: Los Esteros Critical Energy Facility, LLC.

Description: § 205(d) Rate Filing: Market-Based Rate Tariff Revisions to be effective 12/29/2018.

Filed Date: 12/28/18.

Accession Number: 20181228-5263.

Comments Due: 5 p.m. ET 1/18/19.

Docket Numbers: ER19-731-000.

Applicants: Los Medanos Energy Center, LLC.

Description: § 205(d) Rate Filing: Market-Based Rate Tariff Revisions to be effective 12/29/2018.

Filed Date: 12/28/18.

Accession Number: 20181228-5267.

Comments Due: 5 p.m. ET 1/18/19.

Docket Numbers: ER19-732-000.

Applicants: Metcalf Energy Center, LLC.

Description: § 205(d) Rate Filing: Market-Based Rate Tariff Revisions to be effective 12/29/2018.

Filed Date: 12/28/18.

Accession Number: 20181228-5269.

Comments Due: 5 p.m. ET 1/18/19.

Docket Numbers: ER19-733-000.

Applicants: Morgan Energy Center, LLC.

Description: § 205(d) Rate Filing: Market-Based Rate Tariff Revisions to be effective 12/29/2018.

Filed Date: 12/28/18.

Accession Number: 20181228-5270.

Comments Due: 5 p.m. ET 1/18/19.

Docket Numbers: ER19-734-000.

Applicants: Otay Mesa Energy Center, LLC.

Description: § 205(d) Rate Filing: Market-Based Rate Tariff Revisions to be effective 12/29/2018.

Filed Date: 12/28/18.

Accession Number: 20181228-5271.

Comments Due: 5 p.m. ET 1/18/19.

Docket Numbers: ER19-735-000.

Applicants: Pastoria Energy Facility L.L.C.

Description: § 205(d) Rate Filing: Market-Based Rate Tariff Revisions to be effective 12/29/2018.

Filed Date: 12/28/18.

Accession Number: 20181228-5287.

Comments Due: 5 p.m. ET 1/18/19.

Docket Numbers: ER19-736-000.

Applicants: Pine Bluff Energy, LLC.

Description: § 205(d) Rate Filing: Market-Based Rate Tariff Revisions to be effective 12/29/2018.

Filed Date: 12/28/18.

Accession Number: 20181228-5281.

Comments Due: 5 p.m. ET 1/18/19.

Docket Numbers: ER19-737-000.

Applicants: RockGen Energy, LLC.

Description: § 205(d) Rate Filing: Market-Based Rate Tariff Revisions to be effective 12/29/2018.

Filed Date: 12/28/18.

Accession Number: 20181228-5282.

Comments Due: 5 p.m. ET 1/18/19.

Docket Numbers: ER19-738-000.

Applicants: South Point Energy Center, LLC.

Description: § 205(d) Rate Filing: Market-Based Rate Tariff Revisions to be effective 12/29/2018.

Filed Date: 12/28/18.

Accession Number: 20181228-5283.

Comments Due: 5 p.m. ET 1/18/19.

Docket Numbers: ER19-739-000.

Applicants: Midcontinent Independent System Operator, Inc.

Description: § 205(d) Rate Filing: 2018-12-31_SA 3226 CapX Fargo 3-Riverview T-T IA to be effective 12/31/2018.

Filed Date: 12/28/18.

Accession Number: 20181228-5284.

Comments Due: 5 p.m. ET 1/18/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 28, 2018.
Nathaniel J. Davis, Sr.,
Deputy Secretary.

[FR Doc. 2019-00531 Filed 1-30-19; 8:45 am]

BILLING CODE 6717-01-P